SMALL BUSINESS ADMINISTRATION

[Disaster Declaration #20543 and #20544; GEORGIA Disaster Number GA-20010]

Presidential Declaration Amendment of a Major Disaster for the State of Georgia

AGENCY: U.S. Small Business Administration.

ACTION: Amendment 2.

SUMMARY: This is an amendment of the Presidential declaration of a major disaster for the State of Georgia (FEMA-4821-DR), dated September 24, 2024.

Incident: Tropical Storm Debby.

DATES: Issued on December 26, 2024.

Incident Period: August 4, 2024 through August 20, 2024.

Physical Loan Application Deadline Date: February 7, 2025.

Economic Injury (EIDL) Loan Application Deadline Date: June 24, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Georgia, dated September 24, 2024, is hereby amended to extend the deadline for filing applications for physical damages as a result of this disaster to February 7, 2025.

All other information in the original declaration remains unchanged.

(Catalog of Federal Domestic Assistance Number 59008)

Alejandro Contreras,
Acting Deputy Associate Administrator, Office of Disaster Recovery & Resilience.

[FR Doc. 2024-31596 Filed 1-3-25; 8:45 am]

BILLING CODE 8026-09-P